BUREAU OF CONSUMER FINANCIAL PROTECTION

[Docket No. CFPB-2011-0016]

Request for Information on Consumer Financial Products and Services Offered to Servicemembers

AGENCY: Bureau of Consumer Financial Protection.

ACTION: Notice and Request for Information.

SUMMARY: Section 1013(e)(1) of the Consumer Financial Protection Act of 2010 requires the Bureau of Consumer Financial Protection (“CFPB” or “Bureau”) to educate and empower servicemembers and their families to make better informed decisions regarding consumer financial products and services; to coordinate with CFPB's Consume Response function to monitor consumer complaints by servicemembers and their families; and to coordinate efforts among Federal and State agencies, as appropriate, regarding consumer protection measures relating to consumer financial products and services offered to, or used by, servicemembers and their families. Consistent with this requirement, the CFPB Office of Servicemember Affairs seeks information on consumer financial products and services that are currently being offered to or used by servicemembers and their families. Among other things, the office is particularly interested in information on products and services (and associated programs and policies) that are tailored to the unique financial needs of servicemembers and their families. The information provided will help the office develop a knowledge base of consumer financial products and services utilized by servicemembers that will inform the office's planning with respect to education and outreach initiatives, the monitoring of consumer complaints, and other consumer protection measures. CFPB encourages comments from consumers, financial service providers, organizations, and other members of the public.

DATES: Comment Due Date: September 20, 2011.

ADDRESSES: You may submit comments, identified by Docket No. CFPB-2011-0016, by any of the following methods:

• http://www.regulations.gov. Follow the instructions for submitting comments.

• MilitaryResponse@cfpb.gov.

• Mail or Hand Delivery/Courier in Lieu of Mail: Monica Jackson, Office of the Executive Secretary, Consumer Financial Protection Bureau, 1801 L Street, NW., Washington, DC 20036.

Instructions: The CFPB encourages the early submission of comments. All submissions must include the document title and docket number. Please note the number of the question to which you are responding at the top of each response. In general, all comments received will be posted without change to http://www.regulations.gov. In addition, comments will be available for public inspection and copying at 1801 L Street, NW., Washington DC 20036, on official business days between the hours of 10 a.m. and 5 p.m. Eastern Time. You can make an appointment to inspect the documents by telephoning 202-435-7275. All comments, including attachments and other supporting materials, will become part of the public record and subject to public disclosure. Sensitive personal information such as account numbers or Social Security numbers should not be included. Comments will not be edited to remove any identifying or contact information.

FOR FURTHER INFORMATION CONTACT: For general inquiries, submission process questions or any additional information, please call Monica Jackson at 202-435-7275.

SUPPLEMENTARY INFORMATION: The Bureau seeks public comment on the following questions:

1. What consumer financial products and services are currently offered to or utilized by servicemembers and their families?

2. What consumer financial products and services (and associated programs, policies, and practices) are tailored to the unique financial needs of servicemembers and their families or are marketed specifically to servicemembers and their families? Among other things, the office is particularly interested in:

a. Information on consumer financial products or services that are designed to address deployments, permanent-change-of-station moves, overseas assignments, relocations, and similar circumstances.

b. Information on short-term lending products that are tailored to the needs of servicemembers and their families.

c. Information on consumer financial products or services that are comparable to the Department of Defense (DoD) Savings Deposit Program.

3. What financial education opportunities are financial service providers offering to servicemembers and their families, both in person and online?

4. What programs, policies, accommodations, or benefits do financial service providers currently provide to servicemembers and their families that may exceed those required by statute? Among other things, comments could address expanded application of Servicemembers Civil Relief Act protections and fraud protections.

5. What unique assistance, if any, is currently offered by financial service providers to servicemembers and their families who are distressed homeowners? Among other things, comments could address servicemember-specific mortgage modifications; accommodations for servicemembers with Permanent Change of Station Orders; and assistance for wounded, ill or injured servicemembers, or surviving spouses of deceased servicemembers.

6. What marketing and communication strategies are currently used by financial service providers to inform servicemembers and their families of consumer financial products and services; programs or accommodations for servicemembers and their families; and financial educational opportunities? Which strategies tend to be more effective and which are less effective?

Dated: August 29, 2011.
Hollister K. Petraeus,
Assistant Director, Office of Servicemember Affairs.

[FR Doc. 2011-22595 Filed 9-2-11; 8:45 am]

BILLING CODE 4810-AM-P